DEPARTMENT OF COMMERCE

National Oceanic and Atmospheric Administration

[I.D. 121503A]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene public meetings of the Red Snapper Advisory Panel (AP) and the Standing and Special Reef Fish Scientific and Statistical Committee (SSC) from January 6 through January 7, 2004.

DATES: The Council's Red Snapper AP and SSC will convene jointly at 2 p.m. on Tuesday, January 6, 2004, to receive a presentation on the vermilion snapper and make recommendations. The AP and SSC will hold separate meetings to discuss Draft Reef Fish Amendment 22 (a red snapper rebuilding plan) beginning at 8:30 a.m. on Wednesday, January 7, 200, and will conclude by 3 p.m.

ADDRESSES: The meetings will be held at the Hilton Tampa Airport Westshore Hotel, 2225 Lois Avenue, Tampa, FL; telephone: 813-877-6688.

Council address: Gulf of Mexico Fishery Management Council, 3018 U.S. Highway 301 North, Suite 1000, Tampa, FL 33619.

FOR FURTHER INFORMATION CONTACT: Mr. Steven Atran, Population Dynamics Statistician, Gulf of Mexico Fishery Management Council; telephone: 813-228-2815.

SUPPLEMENTARY INFORMATION: The AP and SSC will meet jointly on Tuesday, January 6 2004 to receive a presentation on the vermilion snapper catch-per-unit-effort (CPUE) indices from the NOAA Fisheries Southeast Fisheries Science Center. Vermilion snapper were recently declared to be overfished by the NOAA Fisheries Regional Office, which triggers a requirement that the Council develop a rebuilding plan. However, the most recent vermilion snapper stock assessment was conducted in 2001 using data through 1999, and some fishermen feel that it may not be representative of the current status of the stock. The updated CPUE analyses, which uses data through 2002, will show if there has been any change in catch rates since 1999, but it is not a full stock assessment. Based on the results of the new CPUE analyses, the AP and SSC will each be asked to recommend whether the Council should request a new vermilion snapper stock assessment from NOAA Fisheries. The SSC will also be asked to evaluate the scientific validity of the new CPUE analyses. If a new stock assessment is requested, the earliest it could be done is 2005, and it would replace a scamp assessment that is currently scheduled for that year. Scamp, one of the most commonly caught grouper species after red grouper and gag, has never had a stock assessment done, and its status is unknown.

On Wednesday, January 7, 2004, the AP and SSC will convene separately to discuss Draft Reef Fish Amendment 22, a red snapper rebuilding plan. Although there is a red snapper rebuilding plan currently in place, that plan was developed prior to implementation of the Sustainable Fisheries Act of 1996 (SFA), and it is not in full compliance with provisions of the SFA. Draft Amendment 22 will create a new rebuilding plan that is in compliance by establishing status determination criteria (minimum stock size threshold, maximum fishing mortality rate, maximum sustainable yield, and optimum yield). Draft Amendment 22 will also contain alternatives to select a rebuilding strategy that will restore the red snapper stock within the time frame allowed under SFA (the recovery time in the absence of fishing mortality plus one generation time, equal to 32 years for red snapper). The amendment will also contain alternatives to implement or revise bycatch reporting methodologies in the commercial and recreational red snapper fisheries.

The recommendations of the AP and SSC will be presented to the Gulf Council at its January 12-15, 2004 meeting in Austin, TX. At that meeting, the Council will decide whether to request a vermilion snapper stock assessment in place of a scamp assessment in 2005, and will take final action on selection of proposed alternatives for Amendment 22.

Copies of the updated vermilion snapper CPUE analyses and Draft Reef Fish Amendment 22 can be obtained by calling the Council office at 813-228-2815 (toll-free 888-833-1844), or can be downloaded from the Council website (http://www.gulfcouncil.org).

Although other non-emergency issues not on the agenda may come before the AP/SSC for discussion, in accordance with the Magnuson-Stevens Fishery Conservation and Management Act, those issues may not be the subject of formal action during these meetings. Actions of the AP/SSC will be restricted to those issues specifically identified in the agendas and any issues arising after publication of this notice that require emergency action under Section 305 (c) of the Magnuson-Stevens Act, provided the public has been notified of the Council's intent to take action to address the emergency.

Special Accommodations

This meeting is physically accessible to people with disabilities. Requests for sign language interpretation or other auxiliary aids should be directed to Trish Kennedy at the Council (see ADDRESSES) by December 29, 2003.

Dated: December 16, 2003.
Richard W. Surdi,
Acting Director, Office of Sustainable Fisheries, National Marine Fisheries Service.

[FR Doc. E3-00602 Filed 12-19-03; 8:45 am]

BILLING CODE 3510-22-S